DEPARTMENT OF HOUSING AND URBAN DEVELOPMENT

[Docket No. FR-7036-N-07]

60-Day Notice of Proposed Information Collection: Closeout Instructions for Community Development Block Grant Programs (CDBG); OMB Control No: 2506-0193

AGENCY: Office of Community Planning and Development, Housing and Urban Development (HUD).

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 27, 2021.

ADDRESSES: Interested persons are invited to submit comments regarding this proposal. Comments should refer to the proposal by name and/or OMB Control Number and should be sent to: Anna Guido, Reports Management Officer, QDAM, Department of Housing and Urban Development, 451 7th Street SW, Room 4176, Washington, DC 20410-5000; telephone 202-402-5535 (this is not a toll-free number) or email at Anna.p.Guido@hud.gov for a copy of the proposed forms or other available information. Persons with hearing or speech impairments may access this number through TTY by calling the toll-free Federal Relay Service at (800) 877-8339.

FOR FURTHER INFORMATION CONTACT: Robert Peterson, Director of State and Small Cities Division, Office of Block Grant Assistance, Department of Housing and Urban Development, email Robert Peterson at Robert.C.Peterson@hud.gov or telephone 202-402-4211. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Closeout Instructions for Community Development Block Grant Programs (CDBG).

OMB Approval Number: 2506-0193.

Type of Request: Extension of currently approved collection.

Form Number: 7082.

Description of the need for the information and proposed use: This information collection is being conducted by HUD's Community Planning and Development Office of Block Grant Assistance (CPDOBGA) to assist HUD in determining, as required by Section 104(e) of the Housing and Community Development Act of 1974 (HCDA), and outlined in Subpart I (for States) and Subpart J (for entitlements) of the CDBG regulation, whether Grantees, (Entitlement communities, States and units of general local governments) have carried out eligible activities and its certifications in accordance with the statutory and regulatory requirements governing State CDBG, CDBG-R, Disaster Recovery, Neighborhood Stabilization Program (NSP) 1, NSP2 and NSP 3 grants prior to closing the grant allocation. The submission of the HUD 7082—Funding Approval Form is necessary as the form is the Grant Agreement between the Department of Housing and Urban Development (HUD) and the Grantee and is made pursuant to the authority of the HCDA, as amended, (42 U.S.C. 5301 et seq.). HUD will make the funding assistance as specified to the grantee upon execution of the Agreement.

We request the paperwork approval because the funding approval form is a vehicle for standardizing the agreements between HUD and each of its grantees.

Respondents (i.e., affected public): 3,325.

Estimated Number of Respondents: 3,325.

Estimated Number of Responses: 3,325.

Frequency of Response: Annually.

Average Hours per Response: .25.

Total Estimated Burdens: 5,581.

Grant Closeout Form
Information collection | Number of respondents | Frequency of response | Responses per annum | Burden hour per response | Annual burden hours | Hourly cost per response | Annual cost
States Total | 182.00 | 1.00 | 182.00 | 3.00 | 546.00 | $41.78 | $22,811.88
Counties in Hawaii Total | 3.00 | 1.00 | 3.00 | 3.00 | 9.00 | 41.78 | 376.02
Entitlement Total | 1,490.00 | 1.00 | 1,490.00 | 3.00 | 4,470.00 | 41.78 | 186,756.60
Non-entitlement Total | 32.00 | 1.00 | 32.00 | 3.00 | 96.00 | 41.78 | 4,010.88
Non-Profits and Quasi-public Total | 20.00 | 1.00 | 20.00 | 3.00 | 60.00 | 41.78 | 2,506.80
Funding Approval Total | 1,727.00 | 1.00 | 1,727.00 | 3.00 | 5,181.00 | 41.78 | 216,462.18

Funding Approval/Agreement 7082 Form
Information collection | Number of respondents | Frequency of response | Responses per annum | Burden hour per response | Annual burden hours | Hourly cost per response | Annual cost
State Total | 132.00 | 1.00 | 132.00 | 0.25 | 33.00 | $41.78 | $1,378.74
Counties in Hawaii Total | 3.00 | 1.00 | 3.00 | 0.25 | 0.75 | 41.78 | 31.33
Entitlement Total | 1,399.00 | 1.00 | 1,399.00 | 0.25 | 349.75 | 41.78 | 14,612.55
Nonentitlement Total | 32.00 | 1.00 | 32.00 | 0.25 | 8.00 | 41.78 | 334.24
Nonentitlement Direct Grantees Total | 32.00 | 1.00 | 32.00 | 0.25 | 8.00 | 41.78 | 334.24
Funding Approval Total | 1,598.00 | 1.00 | 1,598.00 | 0.25 | 399.50 | 41.78 | 16,691.11

Information collection | Number of respondents | Frequency of response | Responses per annum | Burden hour per response | Annual burden hours | Hourly cost per response | Annual cost
Grant Closeout/Form 7082 | 3,325.00 | 1.00 | 3,325.00 |  | 5,581.00 | $41.78 | $233,174.18

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

C. Authority

Section 3507 of the Paperwork Reduction Act of 1995, 44 U.S.C. Chapter 35.

Principal Deputy Assistant Secretary for Community Planning and Development, James Arthur Jemison II, having reviewed and approved this document, is delegating the authority to electronically sign this document to submitter, Aaron Santa Anna, who is the Federal Register Liaison for HUD, for purposes of publication in the Federal Register.

Aaron Santa Anna,
Federal Register Liaison for the Department of Housing and Urban Development.

[FR Doc. 2021-16157 Filed 7-28-21; 8:45 am]

BILLING CODE 4210-67-P